DEPARTMENT OF LABOR

Employment and Training Administration

[TA-W-72,496]

Experian, Global Technology Services, a Subsidiary of Experian, Including a Leased Employee From Tapfin Working Off-Site in New York, and On-Site Leased Workers From Tapfin, Schaumburg, IL; Amended Certification Regarding Eligibility To Apply for Worker Adjustment Assistance

In accordance with section 223 of the Trade Act of 1974, as amended (“Act”), 19 U.S.C. 2273, the Department of Labor issued a Certification of Eligibility to Apply for Worker Adjustment Assistance on January 7, 2010, applicable to workers of Experian, Global Technology Services, a subsidiary of Experian, including on-site leased workers from Tapfin, Schaumburg, Illinois. The notice was published in the Federal Register on February 16, 2010 (75 FR 7037).

At the request of the State agency, the Department reviewed the certification for workers of the subject firm. The workers are engaged in activities related to information technology (IT) services.

New information shows that a worker separation has occurred involving an employee under the control of the Schaumburg, Illinois location of Experian, Global Technology Services, a subsidiary of Experian, working off-site in New York. This employee provided various activities related to the supply of information technology (IT) services.

Based on these findings, the Department is amending this certification to include an employee of the Schaumburg, Illinois facility of the subject firm working off-site in New York.

The intent of the Department's certification is to include all workers of the subject firm who were adversely affected by a shift in information technology (IT) services to Chile and Costa Rica.

The amended notice applicable to TA-W-72,496 is hereby issued as follows:

All workers of Experian, Global Technology Services, a subsidiary of Experian, including an leased employee from Tapfin working off-site in New York and on-site leased workers from Tapfin, Schaumburg, Illinois, who became totally or partially separated from employment on or after October 5, 2008 through January 7, 2012, and all workers in the group threatened with total or partial separation from employment on date of certification through two years from the date of certification, are eligible to apply for adjustment assistance under Chapter 2 of Title II of the Trade Act of 1974, as amended.

Signed in Washington, DC, this 14th day of July 2010.
Elliott S. Kushner,
Certifying Officer, Division of Trade Adjustment Assistance.

[FR Doc. 2010-18188 Filed 7-23-10; 8:45 am]

BILLING CODE 4510-FN-P